DEPARTMENT OF COMMERCE

International Trade Administration

[C-122-815]

Revocation of the Countervailing Duty Orders: Pure Magnesium and Alloy Magnesium from Canada

AGENCY: Import Administration, International Trade Administration, Department of Commerce.

SUMMARY: On July 1, 2005, the Department of Commerce (“the Department”) initiated its sunset reviews of the countervailing duty (“CVD”) orders on pure magnesium and alloy magnesium from Canada. See Initiation of Five-year (“Sunset”) Reviews, 70 FR 38101 (July 1, 2005). Pursuant to section 751(c) of the Tariff Act of 1930, as amended (“the Act”), the International Trade Commission (“the ITC”), in its sunset reviews, determined that revocation of the CVD orders on pure magnesium and alloy magnesium from Canada would not be likely to lead to continuation or recurrence of material injury to an industry in the United States within a reasonably foreseeable time. See Pure and Alloy Magnesium from Canada, 71 FR 36359 (June 26, 2006). Therefore, pursuant to section 751(d)(2) of the Act and 19 CFR 351.222(i)(1)(iii), the Department is revoking the CVD orders on pure magnesium and alloy magnesium from Canada.

EFFECTIVE DATE: August 16, 2005.

FOR FURTHER INFORMATION CONTACT: Andrew McAllister or Brandon Farlander, AD/CVD Operations, Office 1, Import Administration, International Trade Administration, U.S. Department of Commerce, 14th Street and Constitution Avenue, NW, Washington, DC 20230; telephone: (202) 482-1174 and (202) 482-0182, respectively.

SUPPLEMENTARY INFORMATION:

Scope of the Orders

The products covered by these orders are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to the orders is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Background

On August 31, 1992, the Department issued the CVD orders on pure magnesium and alloy magnesium from Canada. See Countervailing Duty Orders: Pure Magnesium and Alloy Magnesium from Canada, 57 FR 39392 (August 31, 1992). On July 1, 2005, the Department initiated, and the ITC instituted, the second sunset reviews of the CVD orders on pure magnesium and alloy magnesium Canada. See Initiation of Five-year (“Sunset”) Reviews, 70 FR 38101 (July 1, 2005). As a result of its CVD sunset reviews, the Department found that revocation of the CVD orders would be likely to lead to continuation or recurrence of a countervailable subsidy, and notified the ITC of the level of subsidy likely to prevail were the orders to be revoked. See Final Results of Expedited Sunset Reviews of the Countervailing Duty Orders: Pure Magnesium and Alloy Magnesium from Canada, 70 FR 67140 (November 4, 2005). On June 26, 2006, the ITC determined, pursuant to section 751(c) of the Act, that revocation of the CVD orders on pure magnesium and alloy magnesium from Canada would not be likely to lead to continuation or recurrence of material injury to an industry in the United States within a reasonably foreseeable time. See Pure and Alloy Magnesium from Canada, 71 FR 36359 (June 26, 2006) and USITC Publication 3859 (June 2006), entitled Pure and Alloy Magnesium from Canada (Inv. Nos. 701-TA-309-A- B).

Determination

As a result of the determination by the ITC that revocation of these CVD orders is not likely to lead to continuation or recurrence of material injury to an industry in the United States, the Department, pursuant to section 751(d) of the Act, is revoking the CVD orders on pure magnesium and alloy magnesium from Canada. Pursuant to section 751(c)(6)(A)(iii) of the Act and 19 CFR 351.222(i)(2)(i), the effective date of revocation is August 16, 2005 (i.e., the fifth anniversary of the date of publication in the Federal Register of the notice of continuation of these CVD orders). The Department will notify U.S. Customs and Border Protection to discontinue suspension of liquidation and collection of cash deposits on entries of the subject merchandise entered or withdrawn from warehouse on or after August 16, 2005, the effective date of revocation of the CVD orders. The Department will complete any pending administrative reviews of these orders and will conduct administrative reviews of subject merchandise entered prior to the effective date of revocation in response to appropriately filed requests for review.

These five-year sunset reviews and notice are in accordance with section 751(d)(2) and published pursuant to section 777(i)(1) of the Act.

Dated: June 29, 2006.
David M. Spooner,
Assistant Secretary for Import Administration.

[FR Doc. E6-10567 Filed 7-5-06; 8:45 am]

BILLING CODE 3510-DS-S